DEPARTMENT OF HEALTH AND HUMAN SERVICES

Centers for Disease Control and Prevention

Disease, Disability, and Injury Prevention and Control Special Emphasis Panel (SEP)—CE21-006: Rigorously Evaluating Programs and Policies To Prevent Child Sexual Abuse (CSA); Amended Notice of Meeting

Notice is hereby given of a change in the meeting of the Disease, Disability, and Injury Prevention and Control Special Emphasis Panel (SEP)—CE21-006: Rigorously Evaluating Programs and Policies to Prevent Child Sexual Abuse (CSA); July 13-14, 2021, 8:30 a.m.-5:00 p.m., EDT.

The videoconference meeting was published in the Federal Register on March 29, 2021, Volume 86, Number 58, page 16369.

The meeting is being amended to update the contact person and should read as follows:

FOR FURTHER INFORMATION CONTACT: Aisha Wilkes, M.P.H., Scientific Review Officer, National Center for Injury Prevention and Control, CDC, 4770 Buford Highway NE, Mailstop S106-9, Atlanta, Georgia 30341, Telephone: (404) 639-6473; Email: awilkes@cdc.gov.

The meeting is closed to the public.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2021-13121 Filed 6-22-21; 8:45 am]

BILLING CODE 4163-18-P